DEPARTMENT OF STATE

[Public Notice 4302]

Advisory Commission on Public Diplomacy Notice of Meeting

The Department of State announces a meeting of the U.S. Advisory Commission on Public Diplomacy on Tuesday, April 29, 2003, in Room 600, 301 4th St., SW., Washington, DC from 9 a.m. to 11 a.m.

The Commission, reauthorized pursuant to Pub. L. 106-113 (H.R. 3194, Consolidated Appropriations Act, 2000), will have a retrospective discussion about the viewpoints Commissioners developed on public diplomacy during their terms in office.

Members of the general public may attend the meeting, though attendance of public members will be limited to the seating available. Access to the building is controlled, and individual building passes are required for all attendees.

The U.S. Advisory Commission on Public Diplomacy is a bipartisan Presidentially appointed panel created by Congress in 1948 to provide oversight of U.S. Government activities intended to understand, inform and influence foreign publics. The Commission reports its findings and recommendations to the President, the Congress and the Secretary of State and the American people. Current Commission members include Harold Pachios of Maine, who is the chairman; Charles Dolan of Virginia, who is the vice chairman; Lewis Manilow of Illinois; Penne Korth Peacock of Washington, DC and Maria Elena Torano of Florida.

For more information or to attend the meeting, please contact Matt Lauer at (202) 619-4457.

Dated: April 9, 2003.
Matthew Lauer,
Executive Director, U.S. Advisory Commission on Public Diplomacy, Department of State.

[FR Doc. 03-9052 Filed 4-11-03; 8:45 am]

BILLING CODE 4710-11-P